DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 65 FR 45994-5 dated July 26, 2000).

This notice reflects the revised functional statement in the Division of Community and Migrant Health (RC4) in the Bureau of Primary Health Care.

Delete the functional statement for the Division of Community and Migrant Health in its entirety and replace with the following:

(1) Implements efforts to improve the organization and delivery of health services by serving as the point of accountability for Primary Health Care Services Delivery programs; (2) Provides leadership and direction for legislative activities in the program area; (3) Develops and establishes policies for such national programs and develops long and short-range program goals and objectives; (4) Is accountable for the administration of funds and other resources for grants, contracts, and clinical and programmatic consultation and assistance; (5) Ensures that assigned responsibilities are being carried out; (6) Coordinates the development and establishment of guidelines and standards for professional services and staff development; (7) Interprets policies, regulations, guidelines, standards, and priorities to higher echelons, to regionally located staff, grantee agencies, institutions and organizations; (8) Coordinates with other programs providing health services including voluntary, official, and other community agencies, and provides clinical and programmatic consultation and assistance, on request, to the States in such areas as program planning, establishment of goals and objectives, standards of care, and evaluation; (9) Establishes and provides liaison in program matters with other entities within BPHC and the Agency, within the Department and with other Federal agencies, consumer groups and national organizations concerned with health matters with State and local governments; (10) Participates in the development of forward plans, legislative proposals, and budgets; and (11) Coordinates the integration of primary care projects and services with other health care delivery systems.

Delegations of Authority

All delegations and redelegations of authority which were in effect immediately prior to the effective date hereof have been continued in effect in them or their successors pending further redelegation.

This reorganization is effective upon date of signature.

Dated: July 25, 2000.
Claude Earl Fox,
Administrator.

[FR Doc. 00-19778 Filed 8-3-00; 8:45 am]

BILLING CODE 4160-15-U